DEPARTMENT OF ENERGY

Federal Energy Regulatory Commission

Combined Notice of Filings #1

Take notice that the Commission received the following electric corporate filings:

Docket Numbers: EC13-99-000.

Applicants: Wabash Valley Power Association, Inc.

Description: Amendment to April 29, 2013 Joint Section 203 Application of Wabash Valley Power Association, Inc., et al.

Filed Date: 6/17/13.

Accession Number: 20130617-5061.

Comments Due: 5 p.m. ET 6/27/13.

Docket Numbers: EC13-119-000.

Applicants: Longview Fibre Paper and Packaging, Inc.

Description: Application under Section 203 of the Federal Power Act submitted by Longview Fibre Paper and Packaging, Inc.

Filed Date: 6/14/13.

Accession Number: 20130614-5190.

Comments Due: 5 p.m. ET 7/5/13.

Take notice that the Commission received the following electric rate filings:

Docket Numbers: ER10-2719-014; ER10-2718-014; ER10-2633-014; ER10-2570-014; ER10-2717-014; ER10-3140-014; ER13-55-004.

Applicants: East Coast Power Linden Holding, L.L.C., Cogen Technologies Linden Venture, L.P., Birchwood Power Partners, L.P., Shady Hills Power Company, L.L.C., EFS Parlin Holdings, LLC, Inland Empire Energy Center, LLC, Homer City Generation, L.P.

Description: Notice of Non-Material Change in Status of the GE Companies.

Filed Date: 6/14/13.

Accession Number: 20130614-5194.

Comments Due: 5 p.m. ET 7/5/13.

Docket Numbers: ER13-1403-001.

Applicants: Dominion Bridgeport Fuel Cell, LLC.

Description: Dominion Bridgeport Fuel Cell, LLC submits tariff filing per 35.17(b): Amended Baseline and Cert. of Concurrence as .rtf to be effective 7/7/2013.

Filed Date: 6/14/13.

Accession Number: 20130614-5164.

Comments Due: 5 p.m. ET 6/24/13.

Docket Numbers: ER13-1696-000.

Applicants: Midcontinent Independent System Operator, Inc.

Description: Midcontinent Independent System Operator, Inc. submits 06-14-2013 SA 2523 ITC-Pheasant Run GIA (J075) to be effective 6/15/2013.

Filed Date: 6/14/13.

Accession Number: 20130614-5150.

Comments Due: 5 p.m. ET 7/5/13.

Docket Numbers: ER13-1697-000.

Applicants: Kiwi Energy Inc.

Description: Kiwi Energy Inc. submits MBR Application to be effective 6/15/2013.

Filed Date: 6/14/13.

Accession Number: 20130614-5152.

Comments Due: 5 p.m. ET 7/5/13.

Docket Numbers: ER13-1698-000.

Applicants: Kiwi Energy NY LLC.

Description: Kiwi Energy NY LLC submits MBR Application to be effective 6/15/2013.

Filed Date: 6/14/13.

Accession Number: 20130614-5153.

Comments Due: 5 p.m. ET 7/5/13.

Docket Numbers: ER13-1699-000.

Applicants: Midcontinent Independent System Operator, Inc.

Description: Midcontinent Independent System Operator, Inc. submits 06-14-2013 SA 6500 Escanba Amended SSR Agr to be effective 6/15/2013.

Filed Date: 6/14/13.

Accession Number: 20130614-5154.

Comments Due: 5 p.m. ET 7/5/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 17, 2013.
Nathaniel J. Davis, Sr.,
Deputy Secretary.

[FR Doc. 2013-15393 Filed 6-26-13; 8:45 am]

BILLING CODE 6717-01-P